DEPARTMENT OF HEALTH AND HUMAN SERVICES

Centers for Disease Control and Prevention

National Institute for Occupational Safety and Health Advisory Board on Radiation and Worker Health

In accordance with section 10(a)(2) of the Federal Advisory Committee Act (Pub. L. 92-463), the Centers for Disease Control and Prevention (CDC) announces the following committee meeting:

Name: Advisory Board on Radiation and Worker Health (ABRWH), National Institute for Occupational Safety and Health (NIOSH) and Subcommittee for Dose Reconstruction and Site Profile Reviews.

Subcommittee Meeting Time and Date: 9 a.m.-5 p.m., January 24, 2006.

Committee Meeting Times and Dates:

8:30 a.m.-5 p.m., January 25, 2006. 8:30 a.m.-4:30 p.m., January 26, 2006.

Place: Doubletree Oak Ridge Hotel, 215 South Illinois Avenue, Oak Ridge, Tennessee, 37830, telephone (865) 481-2468, fax (865) 481-2474.

Status: Open to the public, limited only by the space available. The meeting space accommodates approximately 75 people.

Background: The ABRWH was established under the Energy Employees Occupational Illness Compensation Program Act (EEOICPA) of 2000 to advise the President, delegated to the Secretary of Health and Human Services (HHS), on a variety of policy and technical functions required to implement and effectively manage the new compensation program. Key functions of the Board include providing advice on the development of probability of causation guidelines which have been promulgated by HHS as a final rule, advice on methods of dose reconstruction which have also been promulgated by HHS as a final rule, advice on the scientific validity and quality of dose estimation and reconstruction efforts being performed for purposes of the compensation program, and advice on petitions to add classes of workers to the Special Exposure Cohort (SEC). In December 2000, the President delegated responsibility for funding, staffing, and operating the Board to HHS, which subsequently delegated this authority to the CDC. NIOSH implements this responsibility for CDC. The charter was issued on August 3, 2001, renewed at appropriate intervals, and will expire on July 27, 2007.

Purpose: This board is charged with (a) providing advice to the Secretary, HHS, on the development of guidelines under Executive Order 13179; (b) providing advice to the Secretary, HHS, on the scientific validity and quality of dose reconstruction efforts performed for this program; and (c) upon request by the Secretary, HHS, advise the Secretary on whether there is a class of employees at any Department of Energy facility who were exposed to radiation but for whom it is not feasible to estimate their radiation dose, and on whether there is reasonable likelihood that such radiation doses may have endangered the health of members of this class.

Matters To Be Discussed: The agenda for the meeting includes Y-12 (1948-1957) SEC; NIOSH identified SEC classes; Site Profiles for Bethlehem Steel, Rocky Flats, and Savannah River Site; Letter from Steel Workers; SEC Rule rewrite; Task 3 Review of SC&A Contract; Report on additions to the list of 22 Cancers; Conflict of Interest; Dose Reconstruction Reviews; and an update on science issues. The evening public comment sessions are scheduled for January 24 from 5:30 p.m.-6:30 p.m. and January 25 from 7 p.m.-8:30 p.m.

The agenda is subject to change as priorities dictate. In the event an individual cannot attend, written comments may be submitted. Any written comments received will be provided at the meeting and should be submitted to the contact person below well in advance of the meeting.

Contact Person for More Information: Dr. Lewis V. Wade, Executive Secretary, NIOSH, CDC, 4676 Columbia Parkway, Cincinnati, Ohio 45226, telephone 513-533-6825, fax 513-533-6826.

The Director, Management Analysis and Services Office, has been delegated the authority to sign Federal Register notices pertaining to announcements of meetings and other committee management activities for both CDC and the Agency for Toxic Substances and Disease Registry.

Dated: December 27, 2005.
B. Kathy Skipper,
Acting Director, Management Analysis and Services Office, Centers for Disease Control and Prevention.

[FR Doc. E5-8191 Filed 12-30-05; 8:45 am]

BILLING CODE 4163-18-P